FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011528-025.

Title: Japan/United States Eastbound Freight Conference.

Parties: A.P. Moller-Maersk Sealand; American President Lines, Ltd.; Hapag-Lloyd Container Linie GmbH; Kawasaki Kisen Kaisha, Ltd.; Mitsui O.S.K. Lines, Ltd.; Nippon Yusen Kaisha; Orient Overseas Container Line Limited; P&O Nedlloyd B.V.; P&O Nedlloyd Limited; and Wallenius Wilhelmsen Lines AS

Synopsis: The amendment deletes Wallenius Wilhelmsen Lines AS as a party to the agreement.

Agreement No.: 011871.

Title: West Coast-Security Bridge Agreement.

Parties: The members of the West Coast MTO Discussion Agreement (FMC Agreement No. 201143), on the one hand, and the members of the Maritime Security Discussion Agreement (FMC Agreement No. 011852), on the other hand.

Synopsis: The agreement would authorize the parties to meet, discuss, and exchange information related to maritime security.

Agreement No.: 201026-005.

Title: New Orleans/P&O Ports LA Terminal Lease Agreement.

Parties: Board of Commissioners of the Port of New Orleans P&O Ports Louisiana, Inc.

Synopsis: The amendment amends the lease to include a larger acreage and a roadway reservation and to permit the lessee other similar rights of way in the facility.

Agreement No.: 201150-001.

Title: Napoleon Avenue Container Terminal Lease Agreement.

Parties: The Board of Commissioners of the Port of New Orleans; P&O Ports Louisiana, Inc.

Synopsis: The modification changes the basis for calculating the rent under the lease agreement.

Dated: March 12, 2004.
By Order of the Federal Maritime Commission.
Bryant L. VanBrakle,
Secretary.

[FR Doc. 04-6039 Filed 3-16-04; 8:45 am]

BILLING CODE 6730-01-P